DEPARTMENT OF HOMELAND SECURITY

Federal Emergency Management Agency

[Docket ID FEMA-2022-0016]

Assistance to Firefighters Grant Program; Fire Prevention and Safety Grants

AGENCY: Federal Emergency Management Agency (FEMA), Department of Homeland Security (DHS).

ACTION: Notice.

SUMMARY: Pursuant to the Federal Fire Prevention and Control Act of 1974, as amended, the Administrator of FEMA is publishing this notice describing the fiscal year (FY) 2021 Fire Prevention and Safety (FP&S) Program application process, deadlines, and award selection criteria. This notice explains the differences, if any, between these guidelines and those recommended by representatives of the national fire service leadership during the annual Criteria Development Panel (CDP), which was held June 25, 2021. The application period for the FY 2021 FP&S Program was January 18, 2022, to February 18, 2022, and was announced on the Assistance to Firefighters Grants Program (AFGP) website at https://www.fema.gov/grants/preparedness/firefighters, as well as www.grants.gov.

DATES: Grant applications for the FP&S Program were accepted electronically at https://go.fema.gov from January 18, 2022, through February 18, 2022, at 5 p.m. Eastern Time.

ADDRESSES: Assistance to Firefighters Grants Program Branch, DHS/FEMA, 400 C Street SW, 3N, Washington, DC 20472-3635.

FOR FURTHER INFORMATION CONTACT: Catherine Patterson, Branch Chief, Assistance to Firefighters Grants Program Branch, 1-866-274-0960.

SUPPLEMENTARY INFORMATION: FEMA awards FP&S Program grants directly to eligible fire departments, and national, regional, State, local, Tribal governments and nonprofit organizations such as academic (e.g., universities), public health, occupational health, and injury prevention institutions to enhance the safety of the public and firefighters, by assisting fire prevention programs and supporting firefighter health and safety research and development. Eligible organizations must be operating in any of the 50 states, as well as fire departments in the District of Columbia, the Commonwealth of the Northern Mariana Islands, the U.S. Virgin Islands, Guam, American Samoa, the Commonwealth of Puerto Rico, or any federally recognized Indian Tribe or Tribal government.

Applications for the FY 2021 FP&S Program were submitted and processed online at https://go.fema.gov. Before the application period started, the FY 2021 FP&S Program Notice of Funding Opportunity (NOFO) was published on the FEMA FP&S Program website at Fire Prevention & Safety Documents | FEMA.gov, as well as www.grants.gov. The FP&S Program website provides additional information and materials useful for FY 2021 FP&S Program applicants including Frequently Asked Questions, Application Checklist, Self-Evaluation Sheet, and a Cost Share Calculator. FEMA received 491 applications for the FY 2021 FP&S Program, and anticipates awarding approximately 150 grants.

Congressional Appropriations

The funding for the FP&S Program is through the Assistance to Firefighters Grant (AFG) Program. For the FY 2021 AFG Program, Congress appropriated $360 million through the Department of Homeland Security Appropriations Act, 2021 (Pub. L. 116-260) and $100 million through the American Rescue Plan Act of 2021 (Pub. L. 117-2) for a total of $460 million. From these amounts, a total of $46 million was made available for FY 2021 FP&S Program awards, pursuant to 15 U.S.C. 2229(h)(5), which states that not less than 10% of available grant funds each year are awarded under the FP&S Program. Funds appropriated for FY 2021 will be available for obligation and award until September 30, 2022.

Background of the FP&S Program

Since FY 2002, the FP&S Program has provided grant funding to provide critically needed resources to fire departments and nonprofit organizations to carry out fire prevention education and training, fire code enforcement, fire/arson investigation, firefighter safety and health programming, prevention efforts, and research and development. FEMA awards grants on a competitive basis to applicants that best address the FP&S Program's priorities and provide the most compelling justification. Applications that best address FP&S Program priorities, as identified in the Application Evaluation Criteria section of the FP&S Program NOFO, are reviewed by a panel composed of fire service personnel.

The FP&S Program activities include:

1. FP&S Activity: Activities designed to reach high-risk target groups and mitigate the incidence of death, injuries, and property damage caused by fire and fire-related hazards. The five project categories eligible for funding under this activity are:

• Community Risk Reduction;

• Wildfire Risk Reduction;

• Code Enforcement/Awareness;

• Fire and Arson Investigation; and,

• National/State/Regional Programs and Projects.

2. Research and Development (R&D) Activity: Projects aimed at improving firefighter safety, health, or wellness through research and development that reduce firefighter fatalities and injuries. The five project categories eligible for funding under this activity are:

• Clinical Studies;

• Technology and Product Development;

• Database System Development;

• Preliminary Studies; and,

• Early Career Investigator.

The priorities for each activity are fully outlined in the NOFO.

Application Evaluation Criteria

Before making a grant award, FEMA is required by 31 U.S.C. 3354, as enacted by the Payment Integrity Information Act of 2019, Public Law 116-117 (2020), 41 U.S.C. 2313, and 2 CFR 200.206 to review information available through any Office of Management and Budget designated repositories of government-wide eligibility qualification or financial integrity information. Therefore, application evaluation criteria may include the following risk-based considerations of the applicant: (1) Financial stability; (2) quality of management systems and ability to meet management standards; (3) history of performance in managing Federal awards; (4) reports and findings from audits; and (5) ability to effectively implement statutory, regulatory, or other requirements.

FEMA will rank all complete and submitted applications based on how well they align with program priorities for the type of activity requested. Answers to activity-specific questions provide information used to determine each application's ranking relative to the stated program priorities.

Funding priorities and criteria for evaluating FP&S Program applications are established by FEMA based on the recommendations from the CDP. The CDP is comprised of fire service professionals that make recommendations to FEMA regarding the creation of new, or the modification of previously established, funding priorities, as well as developing criteria for awarding grants. The content of the FP&S Program NOFO reflects implementation of the CDP's recommendations with respect to the priorities and evaluation criteria for awards.

The nine major fire service organizations represented on the CDP are:

• Congressional Fire Service Institute

• International Association of Arson Investigators

• International Association of Fire Chiefs

• International Association of Fire Fighters

• International Society of Fire Service Instructors

• National Association of State Fire Marshals

• National Fire Protection Association

• National Volunteer Fire Council

• North American Fire Training Directors

Review and Selection Process

FP&S Program applications will be scored competitively by no less than three members of a Peer Review Panel. Applications with the highest score rankings per activity will also be evaluated through a series of internal FEMA review processes for completeness, adherence to programmatic guidelines, technical feasibility, costs/quantities, and anticipated effectiveness of the proposed project(s). Below is the process by which applications will be reviewed:

i. Peer Review Panel Process

FP&S Activity Projects: All applications will be evaluated through the Peer Review Panel process. The panelists will assess the merits of each project within the application based on the narrative section of the application using the evaluation elements listed in the Narrative Evaluation Criteria below will be used to calculate the narrative's score for each activity requested. Panelists will independently score each requested project within the application, discuss the merits and/or shortcomings of the application with his or her peers, and document the findings. A consensus is not required.

R&D Activity Projects: The Peer Review Panel process is composed of a Fire Service Panel Review and a Science Panel Review.

Fire Service Panel Review

All eligible project applications will first be reviewed and scored by a panel of fire service experts to assess the need for the research results and the likelihood that the results would be implemented by the fire service in the United States. The projects that are determined most likely to be implemented to enable improvement in firefighter safety, health, or well-being will be deemed to be in the “competitive range” and will be forwarded to the second level of project review, which is the scientific panel review process. A consensus is not required.

Science Panel Review

This panel will be comprised of scientists and technology experts who have expertise pertaining to the subject matter of the proposal. Scientific reviewers will independently score projects in the competitive range and, if necessary, discuss the merits or shortcomings of the project in order to reconcile any major discrepancies identified by fellow reviewers. A consensus is not required.

ii. Technical Evaluation Process

The highest scoring project(s) for both activities, will be considered within the fundable range. Projects that are in the fundable range will undergo a technical review by the FEMA FP&S Program Office before being recommended for award. The FEMA FP&S Program Office will assess the request with respect to costs, quantities, feasibility, eligibility, and recipient responsibility prior to recommending any application for award. Additionally, FEMA will review whether the project duplicates other federally funded research or prevention activities in order to avoid duplication. Once the technical evaluation process is complete, each project's final score is determined, and a final ranking of projects will be created. FEMA will award grants based on this final ranking and the ability to meet statutorily required funding limitations listed in this notice and the NOFO.

Narrative Evaluation Criteria

FP&S Activity Projects

1. Financial Need (Fire Departments-10%; Interest Organizations-0%)

Applicants must describe with particularity their unique financial need in the Applicant Information section of the application and detail how consistent it is with their need for financial assistance to carry out the proposed project(s). Applicants may include other unsuccessful attempts to acquire financial assistance. Applicants should provide detail about the applicant's operating budget, including a high-level breakdown of the budget, the applicant's inability to address financial needs without federal assistance, and other actions the applicant has taken to meet their needs (e.g., state assistance programs or other grant programs).

2. Commitment to Mitigation (Fire Departments Only-5%)

Fire department applicants that can demonstrate their commitment and proactive posture to reducing fire risk will receive higher consideration. Applicants must explain their code adoption and enforcement (to include Wildland Urban Interface and commercial/residential sprinkler code adoption and enforcement) and mitigation strategies (including whether or not the jurisdiction has a FEMA-approved mitigation strategy). Applicants can also demonstrate their commitment to reducing fire risk by applying to implement fire mitigation strategies (code adoption and enforcement) via this application.

3. Vulnerability Statement (Fire Departments-15%, Interest Organizations-25%)

The assessment of fire risk is essential in the development of an effective project goal, as well as meeting FEMA's goal to reduce risk by conducting a risk assessment as a basis for action. Vulnerability is a “weak link,” demonstrating high-risk behavior, living conditions, or any type of high-risk situation. The Vulnerability Statement should include a detailed description of the steps taken to determine the vulnerability and identify the target audience. The methodology for determination of vulnerability (i.e., how the vulnerability was found) should be discussed in-depth in the application's Narrative Statement.

4. Project Description (Fire Departments-20%, Interest Organizations-25%)

Applicants must describe in detail not only the project components but also how the proposed project addresses the identified capability gap due to financial need and/or the specific vulnerabilities identified in the vulnerability statement. The following information should be included:

• Project components;

• Review of any existing programs or models that have been successful;

• Detailed description of how the proposed project components fill the identified capability gap; and,

• If working with Fire Service Partners/Organizations, identify each partner/organization and the role(s) they will fill in the successful completion of the proposed project.

5. Implementation Plan (Fire Departments-25%, Interest Organizations-30%)

Each project proposal should include nuanced details on the implementation plan that discusses the proposed project's goals and objectives. The following information should be included to support the implementation plan:

• Goals and objectives;

• Details regarding the methods and specific steps that will be used to achieve the goals and objectives;

• Timelines outlining the chronological project steps (this is critical for determining the likelihood of the project's completion within the period of performance);

• Where applicable, examples of marketing efforts to promote the project, who will deliver the project (e.g., effective partnerships), and the manner in which materials or deliverables will be distributed;

• Requests for props (i.e., tools used in educational or awareness demonstrations), including specific goals, measurable results, and details on the frequency for which the prop will be utilized. Applicants should include information describing the efforts that will be used to reach the high-risk audience and/or the number of people reached through the proposed project (examples of props include safety trailers, puppets, or costumes); and,

• Where human subjects are involved, describe plans for submission to the Institutional Review Board (IRB).

6. Evaluation Plan (Fire Departments-15%, Interest Organizations-15%)

Projects should include a plan for evaluation of effectiveness and identify measurable and quantifiable goals. Applicants seeking to carry out awareness and educational projects, for example, should identify how they intend to determine that there has been an increase in knowledge about fire hazards, or measure a change in the safety behaviors of the audience. Applicants should demonstrate how they will measure risk at the outset of the project in comparison to how much the risk decreased after the project is finished. There are various ways to measure the knowledge gained about fire hazards, including the use of surveys, pre- and post-tests, or documented observations. Applicants are encouraged to attend training on evaluation methods, such as the National Fire Academy's “Demonstrating Your Fire Prevention Program's Worth.”

7. Cost-Benefit (Fire Departments-10%, Interest Organizations-5%)

Projects will be evaluated and scored by the Peer Review Panelists based on how well the applicant addresses the fire prevention needs of the department or organization in an economic and efficient manner. The applicant should show how it will maximize the level of funding that goes directly into the delivery of the project. The costs associated with the project also must be reasonable for the target audience that will be reached, and a description should be included of how the anticipated project benefit(s) (quantified if possible) outweighs the cost(s) of the requested item(s). The application should provide justification for all costs included in the project in order to assist the Technical Evaluation Panel with their review.

R&D Activity Projects

Fire Service Panel Evaluation Criteria

1. Purpose (25%)

Applicants should clearly identify the specific benefits of the proposed research project to improve firefighter safety, health, or well-being. The discussion should include:

• The specific risk to firefighter safety, health, or well-being that the project will address;

• The expected benefits of the project, including how the project will prevent, reduce, or mitigate the specific risk;

• The gaps in knowledge that will be addressed; and,

• The general project methods planned to produce the intended results.

2. Potential Impact (15%)

Applicants should discuss the potential impact of the research outcome/product on firefighter safety by quantifying the possible reduction in the number of fatal or non-fatal injuries or on projected well-being by significantly improving the overall health of firefighters.

3. Implementation by the Fire Service (25%)

Applicants should discuss how the outcomes/products of this research, if successful, are likely to be widely/nationally adopted and accepted by the fire service as changes that enhance firefighter safety, health, or well-being.

4. Barriers (15%)

Applicants should identify and discuss potential fire service and other barriers to successfully completing the study on schedule, including contingencies and strategies to deal with barriers if they materialize. This may include barriers that could inhibit the proposed fire service participation in the study, barriers that could inhibit the adoption of successful results by the fire service when the project is completed, or project components most likely to cause delay in successful completion.

5. Partners (20%)

Applicants should recognize that participation of the fire service as a partner in the research from development to dissemination is regarded as an essential part of all projects. Describe the fire service partners and contractors that will support the project to accomplish the objectives of the study. The specific roles and contributions of the partners to the project should be described. Partnerships should be formed with national fire-related organizations, in addition to local and regional fire departments. Letters of support and letters of commitment to actively participate in the project should be included in the Appendix of the application. Generally, participants of a diverse population, including both career and volunteer firefighters, are expected to facilitate acceptance of results nationally. In cases where this is not practical due to the nature of the study or other limitations, these circumstances should be clearly explained.

Science Panel Evaluation Criteria

1. Project Goals, Objectives and Specific Aims (15%)

Applicants should address how the purpose, goals, objectives, and specific aims of the proposal will lead to results that will improve firefighter safety, health, or well-being. Describe the specific goals and objectives for each year of the project.

2. Literature Review (10%)

Applicants should provide a literature review that is relevant to the project's goals, objectives, and specific aims. The citations should be placed in the narrative text and references listed at the end of the Narrative Statement (and not in the Appendix) of the application. The review should be of sufficient depth to make it clear that the proposed project is necessary, adds to an existing body of knowledge, is different from current and previous studies, and offers a unique contribution.

3. Project Methods (Early Career Investigator Applicants-15%, All Other Applicants-20%)

Applicants should provide a description of how the project will be carried out, including demonstration of the overall scientific and technical rigor and merit of the project. This includes the operations to accomplish the purpose, goals, and objectives, and the specific aims of the project. Plans to recruit and retain human subjects, where applicable, should be described.

4. Project Measurements (Early Career Investigator Applicants-15%, All Other Applicants-20%)

Applicants should provide evidence of the technical rigor and merit of the project, such as data pertaining to validity, reliability, and sensitivity (where established) of the facilities, equipment, instruments, standards, and procedures that will be used to carry out the research. The applicant should discuss the data to be collected to evaluate the performance methods, technologies, and products proposed to enhance firefighter safety, health, or well-being. The applicant should demonstrate that the measurement methods and equipment selected for use are appropriate and sufficient to successfully deliver the proposed project objectives.

5. Project Analysis (Early Career Investigator Applicants-15%, All Other Applicants-20%)

The applicant should indicate the planned approach for analysis of the data obtained from measurements, questionnaires, or computations. Specify within the plan what will be analyzed, the statistical methods that will be used, the sequence of steps, and interactions as appropriate. It should be clear that the Principal Investigator (PI) and research team have the expertise to perform the planned analysis and defend the results in a peer review process.

6. Dissemination and Implementation (15%)

Applicants should indicate dissemination plans for scientific audiences (e.g., plans for submissions to specific peer review publications) and for firefighter audiences (e.g., via websites, magazines, and conferences). Also, assuming positive results and where applicable, indicate future steps that would support dissemination and implementation throughout the fire service. These are likely to be beyond the current study, so those features of the research activity that will facilitate future dissemination and implementation should be discussed. All applicants should specify how the results of the project, if successful, might be disseminated and implemented in the fire service to improve firefighter safety, health, or well-being.

7. Mentoring (Early Career Investigator Applicants Only-15%)

An important factor in the evaluation of Early Career Investigator projects is the participation of a mentor(s) in the project. A mentor for the PI should be an experienced researcher in areas appropriate to the research project and be able to provide support to the PI for ongoing development of knowledge and skills throughout the project. The mentor needs to have relationships with the fire service community sufficient to assist the PI in building relationships with fire departments and fire service organizations. The mentor has a role to support the applicant from submitting the application for funding through the completion of a funded project. The applicant should identify the mentor(s) that has agreed to support the applicant and the project. The applicant should discuss the role of the mentor(s) in the project and the expected benefits of the mentoring relationship to the applicant and the project. A biographical sketch and letter of commitment/support from the mentor(s) are required to be included in the Appendix document.

Eligible Applicants

FP&S Activity: Fire departments operating in any of the 50 states, as well as fire departments in the District of Columbia, the Commonwealth of the Northern Mariana Islands, the U.S. Virgin Islands, Guam, American Samoa, the Commonwealth of Puerto Rico, or any federally recognized Indian Tribe or Tribal government. A fire department is an agency or organization having a formally recognized arrangement with a state, local (city, county, parish, fire district, township, town, or other governing body), Tribal government, or territorial authority to provide fire suppression to a population within a geographically fixed primary first due response area.

National, regional, state, local, Tribal government, and nonprofit interest organizations that are recognized for their experience and expertise in fire prevention and safety programs and activities are eligible applicants.

Firefighter Safety R&D Activity: National, state, local, federally recognized Tribal government, and nonprofit organizations, such as academic (e.g., universities), public health, occupational health, and injury prevention institutions.

Ineligibility

• To avoid a duplication of benefits, FEMA reserves the right to review all program activities or grant applications where two or more organizations share a single facility. To be eligible as a separate organization, two or more fire departments, national, state, local, federally recognized Tribal government, and nonprofit interest organizations, and other nonprofit organizations, such as academic (e.g. universities), public health, occupational health, and injury prevention institutions will have different funding streams, personnel rosters, or Employer Identification Numbers (EINs). If two or more organizations share facilities and each submits an application in the same activity (e.g., Community Risk Reduction, Wildfire Risk Reduction, Code Enforcement/Awareness, Fire and Arson Investigation, or National/State/Regional Programs and Projects), FEMA will carefully review all of those program area applications for eligibility.

• For-profit organizations, federal agencies, and individuals are not eligible to apply for FP&S Program funding.

Statutory Limits to Funding

FP&S Program awards are limited to a maximum federal share of $1.5 million dollars regardless of applicant type, in accordance with 15 U.S.C. 2229(d)(2). FP&S R&D Activity applicants that applied under the Early Career Investigator category are limited to a maximum federal share of $200,000 per project year.

Cost Sharing and Maintenance of Effort

Grant recipients must share in the costs of the projects funded under this grant program as required by 15 U.S.C. 2229(k)(1) and in accordance with the applicable Federal regulations at 2 CFR part 200, but they were not required to have the cost share at the time of application nor are they required to have it at the time of award. However, before a grant is awarded, FEMA validates that the grant recipient provided sufficient evidence that the cost-share requirement will be fulfilled during the performance period of the grant award.

In general, an eligible applicant seeking an FP&S Program grant shall agree to make available non-federal funds equal to not less than 5% of the grant awarded. Cash match and in-kind matches are both allowable. Cash (hard) matches include non-federal cash spent for project-related costs. In-kind (soft) matches include, but are not limited to, the valuation of in-kind services; complementary activities; and provision of staff, facilities, services, material, or equipment. In-kind is the value of something received or provided that does not have a cost associated with it. For example, where an in-kind match (other than cash payments) is permitted, then the value of donated services could be used to comply with the match requirement. Also, third party in-kind contributions may count toward satisfying match requirements provided the grant recipient receiving the contributions expends them as allowable costs in compliance with provisions listed above.

Grant recipients under the FP&S Program must also agree to a maintenance of effort requirement as required by 15 U.S.C. 2229(k)(3) (referred to as a “maintenance of expenditure” requirement in that statute). A grant recipient shall agree to maintain during the term of the grant the applicant's aggregate expenditures relating to the activities allowable under the NOFO at not less than 80% of the average amount of such expenditures in the two fiscal years preceding the fiscal year in which the grant amounts are received.

In cases of demonstrated economic hardship, and upon the request of the grant recipient, the FEMA Administrator may waive or reduce a certain grant recipient's cost share or maintenance of expenditure requirements (15 U.S.C. 2229(k)(4)(A)). FP&S Program applicants for FY 2021 must indicate at the time of application whether they are requesting a waiver and whether the waiver is for the cost share requirement, for the maintenance of effort requirement, or both. As required by statute, the Administrator of FEMA is required to establish guidelines for determining what constitutes economic hardship. FEMA published these guidelines on the FEMA website at (Grant Programs Directorate Information Bulletin No. 427): https://www.fema.gov/sites/default/files/2020-04/Eco_Hardship_Waiver_FPS_SAFER_AFG_IB_FINAL.pdf. Per 15 U.S.C. 2229(k)(4)(C), FP&S Program nonprofit organization grant recipients that are not fire departments or emergency medical services organizations are not eligible to receive a waiver of their cost share for economic hardship requirements.

Application Process

Organizations may apply for funding under both eligible activities (FP&S and R&D) but must complete separate applications for each eligible activity. Each application may be for up to three projects under that activity, however each project within an application must be presented separately as a free-standing proposal. Organizations are limited to one application per activity, per application period. If an organization submits more than one application for the same activity, either intentionally or unintentionally, both applications may be disqualified.

Applicants access the grant application electronically at https://go.fema.gov. The application is also accessible from the Grants.gov website at http://www.grants.gov. New applicants must register in the FEMA Grants Outcomes system (FEMA GO) and establish a username and password for secure access to the grant application. Previous FP&S Program applicants must use their previously established username and password for FEMA GO.

Applicants are expected to answer questions about their grant request that reflect the FP&S Program funding priorities. In addition, applicants must complete narratives for each project requested.

During the FY 2021 FP&S Program application period, FEMA conducted applicant internet webinars to inform potential applicants about the FP&S Program. In addition, FEMA provided applicants with information at the FP&S Program website, https://www.fema.gov/grants/preparedness/firefighters/safety-awards/documents, to help them prepare quality grant applications. The FP&S Program Help Desk is staffed throughout the application period to assist applicants with the automated application process as well as answer any questions.

Applicants can reach the FP&S Program Help Desk through a toll-free telephone number during normal business hours (1-866-274-0960) or email at firegrants@fema.dhs.gov.

System for Award Management (SAM)

Per 2 CFR 25.200, all Federal grant applicants and recipients must register at https://SAM.gov. SAM is the Federal Government's System for Award Management, and registration is free of charge. Applicants must maintain current information in SAM that is consistent with the data provided in their FP&S Program grant application, and for purposes of this particular application period, in the Dun & Bradstreet database, which previously provided the official unique entity identifier, the Data Universal Numbering System (DUNS) number. As of April 4, 2022, SAM has transitioned from the DUNS number to a nonproprietary Unique Entity Identifier (UEI) obtained through SAM.gov. For entities that had an active registration in SAM.gov prior to April 4, 2022, the UEI was automatically assigned and no further action is necessary. Per 2 CFR 25.205, FEMA may not make a federal award or make any financial modifications to an existing award unless the applicant or grant recipient complied with all applicable unique entity identifier and SAM requirements. The grant applicant's banking information, EIN, organization/entity name, address, and unique entity identifier must match the same information provided in SAM.

Criteria Development Process Recommendations

If there are any differences between the published FP&S Program guidelines and the recommendations made by the CDP, FEMA must explain them and publish the information in the Federal Register prior to awarding any grant under the FP&S Program. For FY 2021, FEMA accepted, and will implement, all of the CDP's recommendations for the prioritization of eligible activities.

Adopted Recommendations for FY 2021

The FY 2021 FP&S Program NOFO contains some changes to definitions, descriptions, and priority categories. Changes to the FY 2021 FP&S Program NOFO include:

• Under Applicant Eligibility Criteria:

○ Added information on application submittal and Authorized Organization Representatives.

• Under section E—Narrative Evaluation Criteria:

○ Added information on FEMA's review of Narrative Statements.

○ Added guidance regarding R&D Activity Fire Service Panel Evaluation Criteria.

○ Reorganized R&D Activity Fire Service Panel Evaluation Criteria to include Potential Impact in advance of Implementation by Fire Service.

○ Updated the weighted evaluation criteria for R&D Activity Early Career Investigator applicants, including a new Science Panel Evaluation criterion for Mentoring.

○ R&D Activity Early Career Investigator applicants are required to submit a biological sketch of the mentor and a signed letter of commitment from the mentor.

• Under section F—Environmental Planning and Historic Preservation (EHP) Compliance:

○ Added examples of activities that require EHP review.

• Under Appendix B—Supporting Definitions:

○ Updated definition of Human Subject.

• Under Appendix B—FP&S Activity, Community Risk Reduction Category:

○ Added guidance regarding smoke alarm installation.

○ Added guidance regarding LED/electronic signs.

• Under Appendix B—FP&S Activity, Code Enforcement/Awareness Category:

○ Added pre-planning.

• Under Appendix B—FP&S Activity, National/State/Regional Programs and Projects:

○ Added guidance regarding IRB exemption determinations.

• Under Appendix B—FP&S Activity, Ineligible Projects and Items:

○ Clarified that remodeling/renovations to an existing facility is only eligible if limited to minor interior alterations costing less than $10,000.

○ Included emergency medical services equipment/supplies/vehicles, firefighter physicals, Research and Development, creation of new databases, projects requiring IRB approval to work with human subjects, fuel or vegetation removal/reduction on public land, and evacuation roads.

• Under Appendix B—R&D Activities Overview:

○ Absorbed the Dissemination and Implementation Research category into the Clinical Studies category.

• Under Appendix B—R&D Activity, Ineligible Projects and Items:

○ Included international travel to attend conferences or disseminate results, and projects to purchase stock in any entity.

• Under Appendix C:

○ Added additional information on allowability of costs under Grant Writer/Preparation Fees.

(Authority: 15 U.S.C. 2229)

Deanne Criswell,
Administrator, Federal Emergency Management Agency.

[FR Doc. 2022-10193 Filed 5-11-22; 8:45 am]

BILLING CODE 9111-64-P